DEPARTMENT OF JUSTICE

Office of Information Policy; Attorney General Memorandum for Executive Departments and Agencies Concerning the Freedom of Information Act

AGENCY: Department of Justice.

ACTION: Notice.

SUMMARY: On January 21, 2009, the President issued a memorandum for the heads of executive departments and agencies on the Freedom of Information Act (FOIA). That memorandum required that the Attorney General issue new guidelines governing the FOIA to the heads of executive departments and agencies, reaffirming the commitment to accountability and transparency, and to publish such guidelines in the Federal Register. Pursuant to the President's directive, the Attorney General issued new FOIA guidelines on March 19, 2009. Those guidelines are now published here.

FOR FURTHER INFORMATION CONTACT: Melanie Ann Pustay, Director, Office of Information Policy, U.S. Department of Justice, 1425 New York Avenue, NW., Suite 11050, Washington, DC 20009, telephone (202) 514-3642.

SUPPLEMENTARY INFORMATION: In his January 21, 2009 memorandum on the Freedom of Information Act (FOIA) the President stated that “[a]ll agencies should adopt a presumption in favor of disclosure, in order to renew their commitment to the principles embodied in FOIA, and to usher in a new era of open Government.” This memorandum is published in the Federal Register at 74 FR 4683-84 and is available at http://www.whitehouse.gov/thepress_office/FreedomoflnformationAct/.

The President also directed the Attorney I General “to issue new guidelines governing the FOIA to the heads of executive departments and agencies, reaffirming the commitment to accountability and transparency.” Pursuant to this instruction, the Attorney General issued new FOIA guidelines on March 19, 2009; The purpose of the Attorney General's memorandum is to underscore the FOIA's purpose of providing an open government and to help ensure that it is realized in practice. The guidelines provided by the Attorney General stress the important implications of the President's call for a presumption of openness, emphasize that the FOIA is everyone's responsibility, and direct agencies to work proactively and promptly. A full text of these guidelines is available on the Department of Justice's Web site at http://www.usdoj.gov/ag/foia-memo-march2009.pdf. Pursuant to the President's instruction, the Attorney General's guidelines are also published here.

Dated: September 17, 2009.
Melanie Ann Pustay,
Director, Office of Information Policy.

[FR Doc. E9-23375 Filed 9-28-09; 8:45 am]

BILLING CODE M